NUCLEAR REGULATORY COMMISSION

Advisory Committee on Reactor Safeguards; Meeting Notice

In accordance with the purposes of Sections 29 and 182b. of the Atomic Energy Act (42 U.S.C. 2039, 2232b), the Advisory Committee on Reactor Safeguards will hold a meeting on July 11-13, 2001, in Conference Room T-2B3, 11545 Rockville Pike, Rockville, Maryland. The date of this meeting was previously published in the Federal Register on Friday, November 17, 2000 (65 FR 69578).

Wednesday, July 11, 2001

8:30 a.m.-8:35 a.m.: Opening Remarks by the ACRS Chairman (Open)—The ACRS Chairman will make opening remarks regarding the conduct of the meeting.

8:35 a.m.-10:00 a.m.: Proposed Risk-Informed Revisions to 10 CFR 50.46 and Proposed Revisions to the Framework for Risk-Informing the Technical Requirements of 10 CFR Part 50 (Open)—The Committee will hear presentations by and hold discussions with representatives of the NRC staff regarding proposed risk-informed revisions to 10 CFR 50.46, “Acceptance Criteria for Emergency Core Cooling Systems for Light-Water Nuclear Power Reactors,” and proposed revisions to the framework for risk-informing the technical requirements of 10 CFR Part 50.

10:20 a.m.-12:00 Noon: SECY-01-0100, “Policy Issues Related to Safeguards, Insurance, and Emergency Preparedness Regulations at Decommissioning Nuclear Power Plants Storing Fuel in Spent Fuel Pools” (Open/Closed)—The Committee will hear presentations by and hold discussions with representatives of the NRC staff regarding SECY-01-0100 and related matters.

[Note: A portion of this session may be closed to discuss safeguards information.]

1:00 p.m.-2:00 p.m.: Need to Revise 10 CFR Part 54, “Requirements for Renewal of Operating Licenses for Nuclear Power Plants” (Open)—The Committee will hear presentations by and hold discussions with representatives of the NRC staff and the Nuclear Energy Institute (NEI) regarding the need to revise 10 CFR Part 54.

2:15 p.m.-3:45 p.m.: Control Rod Drive Mechanism (CRDM) Cracking (Open/Closed)—The Committee will hear presentations by and hold discussions with representatives of the NRC staff and NEI regarding the staff and industry proposals for dealing with CRDM cracking.

[Note: A portion of this session may be closed to discuss proprietary information.]

3:45 p.m.-4:15 p.m.: Break and Preparation of Draft ACRS Reports (Open)—Cognizant ACRS members will prepare draft reports for consideration by the full Committee.

4:15 p.m.-7:00 p.m.: Discussion of Proposed ACRS Reports (Open)—The Committee will discuss proposed ACRS reports on matters considered during this meeting as well as a proposed report on South Texas Project Exemption Request.

Thursday, July 12, 2001

8:30 a.m.-8:35 a.m.: Opening Remarks by the ACRS Chairman (Open)—The ACRS Chairman will make opening remarks regarding the conduct of the meeting.

8:35 a.m.-9:45 a.m.: Draft Individual Plant Examination of External Events (IPEEE) Insights Report (Open)—The Committee will hear presentations by and hold discussions with representatives of the NRC staff regarding the draft IPEEE Insights Report (NUREG-1742).

10:00 a.m.-11:00 a.m.: Proposed Resolution of Generic Safety Issues (GSI)-191, “Assessment of Debris Accumulation on PWR Sump Pump Performance” (Open)—The Committee will hear presentations by and hold discussions with representatives of the NRC staff regarding the status of resolution of GSI-191.

11:15 a.m.-12:15 p.m.: Potential Margin Reductions Associated with Power Uprates (Open)—The Committee will hold discussions with representatives of the NRC staff regarding ongoing or proposed staff activities related to the development of a Standard Review Plan for use in the review of power uprate applications.

1:15 p.m.-2:00 p.m.: Reactor Oversight Process (Open)—The Committee will discuss a proposed response to the following items in the April 5, 2000 Staff Requirements Memorandum:

• Review the use of performance indicators (PIs) in the Revised Reactor Oversight Process (RROP) to ensure that the PIs provide meaningful insights into aspects of plant operation that are important to safety.

• Review the initial implementation of the significance determination processes (SDPs) and assess the technical adequacy of the SDP to contribute to the RROP.

2:00 p.m.-2:45 p.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, and organizational and personnel matters relating to the ACRS.

2:45 p.m.-3:00 p.m.: Reconciliation of ACRS Comments and Recommendations (Open)—The Committee will discuss the responses from the NRC Executive Director for Operations (EDO) to comments and recommendations included in recent ACRS reports and letters. The EDO responses are expected to be made available to the Committee prior to the meeting.

3:45 p.m.-7:00 p.m.: Discussion of Proposed ACRS Reports (Open)—The Committee will discuss proposed ACRS reports.

Friday, July 13, 2001

8:30 a.m.-8:35 a.m.: Opening Remarks by the ACRS Chairman (Open)

8:35 a.m.-5:30 p.m.: Proposed ACRS Reports (Open)—The Committee will continue its discussion of proposed ACRS reports.

5:30 p.m.-6:00 p.m.: Miscellaneous (Open)—The Committee will discuss matters related to the conduct of Committee activities and matters and specific issues that were not completed during previous meetings, as time and availability of information permit.

Procedures for the conduct of and participation in ACRS meetings were published in the Federal Register on October 11, 2000 (65 FR 60476). In accordance with these procedures, oral or written views may be presented by members of the public, including representatives of the nuclear industry. Electronic recordings will be permitted only during the open portions of the meeting and questions may be asked only by members of the Committee, its consultants, and staff.Persons desiring to make oral statements should notify Mr. Howard J. Larson, ACRS, five days before the meeting, if possible, so that appropriate arrangements can be made to allow necessary time during the meeting for such statements. Use of still, motion picture, and television cameras during the meeting may be limited to selected portions of the meeting as determined by the Chairman. Information regarding the time to be set aside for this purpose may be obtained by contacting Mr. Howard J. Larson prior to the meeting. In view of the possibility that the schedule for ACRS meetings may be adjusted by the Chairman as necessary to facilitate the conduct of the meeting, persons planning to attend should check with Mr. Howard J. Larson if such rescheduling would result in major inconvenience.

In accordance with Subsection 10(d) P.L. 92-463, I have determined that it is necessary to close portions of this meeting noted above to discuss safeguards information per 5 U.S.C. 552b(c)(3) and proprietary information per 5 U.S.C. 552b(c)(4).

Further information regarding topics to be discussed, whether the meeting has been canceled or rescheduled, the Chairman's ruling on requests for the opportunity to present oral statements, and the time allotted therefor can be obtained by contacting Mr. Howard J. Larson (telephone 301-415-6805), between 7:30 a.m. and 4:15 p.m., EDT.

ACRS meeting agenda, meeting transcripts, and letter reports are available for downloading or viewing on the internet at http://www.nrc.gov/ACRSACNW.

Videoteleconferencing service is available for observing open sessions of ACRS meetings. Those wishing to use this service for observing ACRS meetings should contact Mr. Theron Brown, ACRS Audio Visual Technician (301-415-8066), between 7:30 a.m. and 3:45 p.m., EDT, at least 10 days before the meeting to ensure the availability of this service. Individuals or organizations requesting this service will be responsible for telephone line charges and for providing the equipment facilities that they use to establish the videoteleconferencing link. The availability of videoteleconferencing services is not guaranteed.

Dated: June 15, 2001.
Annette Vietti-Cook,
Acting Advisory Committee Management Officer.

[FR Doc. 01-15632 Filed 6-20-01; 8:45 am]

BILLING CODE 7590-01-P